DEPARTMENT OF LABOR

Mine Safety and Health Administration

Petition for Modification of Application of Existing Mandatory Safety Standards

AGENCY: Mine Safety and Health Administration, Labor.

ACTION: Notice.

SUMMARY: This notice is a summary of a petition for modification submitted to the Mine Safety and Health Administration (MSHA) by the party listed below.

DATES: All comments on the petition must be received by MSHA's Office of Standards, Regulations, and Variances on or before July 21, 2023.

ADDRESSES: You may submit comments identified by Docket No. MSHA-2023-0030 by any of the following methods:

1. Federal eRulemaking Portal: https://www.regulations.gov. Follow the instructions for submitting comments for MSHA-2023-0030.

2. Fax: 202-693-9441.

3. Email: petitioncomments@dol.gov.

4. Regular Mail or Hand Delivery: MSHA, Office of Standards, Regulations, and Variances, 201 12th Street South, Suite 4E401, Arlington, Virginia 22202-5452, Attention: S. Aromie Noe, Director, Office of Standards, Regulations, and Variances. Persons delivering documents are required to check in at the receptionist's desk in Suite 4E401. Individuals may inspect copies of the petition and comments during normal business hours at the address listed above. Before visiting MSHA in person, call 202-693-9455 to make an appointment, in keeping with the Department of Labor's COVID-19 policy. Special health precautions may be required.

FOR FURTHER INFORMATION CONTACT: S. Aromie Noe, Office of Standards, Regulations, and Variances at 202-693-9440 (voice), Petitionsformodification@dol.gov (email), or 202-693-9441 (fax). [These are not toll-free numbers.]

SUPPLEMENTARY INFORMATION: Section 101(c) of the Federal Mine Safety and Health Act of 1977 and Title 30 of the Code of Federal Regulations (CFR) part 44 govern the application, processing, and disposition of petitions for modification.

I. Background

Section 101(c) of the Federal Mine Safety and Health Act of 1977 (Mine Act) allows the mine operator or representative of miners to file a petition to modify the application of any mandatory safety standard to a coal or other mine if the Secretary of Labor determines that:

1. An alternative method of achieving the result of such standard exists which will at all times guarantee no less than the same measure of protection afforded the miners of such mine by such standard; or

2. The application of such standard to such mine will result in a diminution of safety to the miners in such mine.

In addition, sections 44.10 and 44.11 of 30 CFR establish the requirements for filing petitions for modification.

II. Petition for Modification

Docket Number: M-2023-016-C.

Petitioner: Peter Shingara Jr. Mining, 315 Shingara Lane, Sunbury, Pennsylvania 17801.

Mine: No. 1 Slope Operation, MSHA ID No. 36-10008, located in Northumberland County, Pennsylvania.

Regulation Affected: 30 CFR 75.1202-1(a), Temporary notations, revisions, and supplements.

Modification Request: The petitioner requests a modification of 30 CFR 75.1202-1(a) to permit annual mine map revisions and supplements from the initial survey in lieu of the current interval of not more than 6 months.

The petitioner states that:

(a) The low production and slow rate of advance in anthracite mining make surveying on 6-month intervals impractical. In most cases, annual development is frequently limited to less than 500 feet of gangway advance with associated up-pitch development.

(b) The mine is non-mechanized and uses hand-loading methods of mining.

(c) Development above the active gangway is designed to mine into the level above the designated intervals thereby maintaining sufficient control between both surveyed gangways.

(d) Available mine engineering and surveying resources are limited in the mine area, making more than annual surveying difficult to achieve.

The petitioner proposes the following alternative method:

(a) The mine maps shall be revised and supplemented at intervals of not more than 12 months.

(b) The mine maps will continue to be updated by hand notations daily and subsequent surveys will be conducted prior to commencing retreat mining and whenever either a drilling program under 30 CFR 75.388 or plan for mining into inaccessible areas under 30 CFR 75.389 is required.

The petitioner asserts that the alternate method proposed will at all times guarantee no less than the same measure of protection afforded the miners under the mandatory standard.

Song-ae Aromie Noe,
Director, Office of Standards, Regulations, and Variances.

[FR Doc. 2023-13175 Filed 6-20-23; 8:45 am]

BILLING CODE 4520-43-P